DEPARTMENT OF ENERGY

Federal Energy Regulatory Commission

[Docket No. RP02-209-000]

Southern Natural Gas Company; Notice of Proposed Changes in FERC Tariff

March 28, 2002.

Take notice that on March 26, 2002, Southern Natural Gas Company (Southern), tendered for filing as part of its FERC Gas Tariff, Seventh Revised Volume No. 1, the following revised tariff sheets pertaining to its tariff provisions containing the “net present value” (NPV) methodology for awarding available capacity, with an effective date of May 1, 2002:

2nd Revised Sheet No. 101A

1st Revised Sheet No. 101B

2nd Revised Sheet No. 102

1st Revised Sheet No. 102A

Southern is requesting authority: (1) To allow shippers with prearranged deals a one-time right to match any bid made in an open season with a higher NPV, and (2) to award contracts for capacity for terms of 90 days or less without holding an open season.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-8004 Filed 3-29-02; 8:45 am]

BILLING CODE 6717-01-P